DEPARTMENT OF TRANSPORTATION

Federal Aviation Administration

14 CFR Part 39

[Docket No. FAA-2006-25948; Directorate Identifier 2006-NE-32-AD; Amendment 39-15005; AD 2007-04-19R1]

RIN 2120-AA64

Airworthiness Directives; Superior Air Parts, Inc. (SAP), Cylinder Assemblies Part Numbers Series: SA47000L, SA47000S, SA52000, SA55000, SL32000W, SL32000WH, SL32006W, SL36000TW, SL36000W, and SL36006W

AGENCY: Federal Aviation Administration (FAA), Department of Transportation (DOT).

ACTION: Final rule; request for comments.

SUMMARY: The FAA is revising an existing airworthiness directive (AD) for certain SAP cylinder assemblies installed in Teledyne Continental Motors (TCM) 470, 520, and 550 series reciprocating engines, Lycoming Engines (LE) 320, 360, and 540 series reciprocating engines, Avco Lycoming (AL) 540 series reciprocating engines, and Superior Air Parts, Inc. (SAP) 360 series reciprocating engines. That AD currently requires removing from service certain SAP part numbered (P/N) cylinder assemblies installed in TCM, LE, and AL reciprocating engines. That AD also requires removing from service certain cylinder assemblies installed as original equipment in SAP reciprocating engines, or in certain overhauled or repaired SAP reciprocating engines.

This AD continues to require those same actions. This AD results from comments from the Public on the existing AD. We are issuing this AD to prevent cylinder separation that can lead to engine failure, a possible engine compartment fire, and damage to the airplane.

DATES: Effective May 7, 2007.

We must receive any comments on this AD by June 1, 2007.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

You may examine the comments on this AD in the AD docket on the Internet at http://dms.dot.gov.

FOR FURTHER INFORMATION CONTACT: Jurgen Priester, Aerospace Engineer, Special Certification Office, FAA, Rotorcraft Directorate, Southwest Regional Headquarters, 2601 Meacham Blvd., Fort Worth, Texas 76137; e-mail: Jurgen.E. Priester@faa.gov; telephone (817) 222-5159; fax (817) 222-5785.

SUPPLEMENTARY INFORMATION: On February 13, 2007, the FAA issued AD 2007-04-19, Amendment 39-14951 (72 FR 8089, February 23, 2007). That AD requires removing from service certain installed SAP cylinder assemblies, listed in that AD by P/N and serial number (SN), no later than 150 hours total time-in-service (TIS) to preclude cylinder head fatigue failure and separation at the head-to-barrel threaded interface. That AD was the result of nine separated SAP cylinder assemblies in TCM reciprocating engines and one in a LE reciprocating engine. That condition, if not corrected, could result in cylinder separation that can lead to engine failure, a possible engine compartment fire, and damage to the airplane.

Actions Since We Issued AD 2007-04-19

Since we issued AD 2007-04-19, we received comments that cause us to better define and reduce the applicability of this AD.

Comments

We provided the public the opportunity to participate in the development of this AD. We have considered the comments received.

Request To Provide a Range of Dates That SAP Manufactured the Suspect Cylinders

A number of commenters ask us to include the date range when SAP manufactured the cylinders. The commenters state that including the range of dates will help users to determine if they need to investigate further and will eliminate unnecessary time and money spent to determine if a suspect cylinder assembly is installed on their engine.

We agree. We changed the applicability to provide a date range to help narrow the applicability. Also, we clarified the SN range to narrow the applicability even further.

Minor Editorial Changes

We included some minor editorial changes in this AD to clarify some nomenclature.

Conclusion

We have carefully reviewed the available data, including the comments received, and determined that air safety and the public interest require adopting the AD with the changes described previously. We have determined that these changes will neither increase the economic burden on any operator nor increase the scope of the AD.

FAA's Determination and Requirements of This AD

The unsafe condition described previously is likely to exist or develop on other TCM 470, 520, and 550; LE 320, 360, and 540; AL 540, and SAP 360 series reciprocating engines of the same type design with certain SAP cylinder assemblies that have a part number listed in this AD. For that reason, we are issuing this AD to prevent cylinder separation which can lead to engine failure, a possible engine compartment fire, and damage to the airplane. This AD requires removing from service installed SAP cylinder assemblies listed in this AD, no later than 150 hours total TIS to preclude cylinder head fatigue failure and separation at the head-to-barrel threaded interface.

FAA's Determination for No Prior Public Notice

Since we do not anticipate adverse public interest in this action, a situation exists that allows for immediate adoption of this AD, and we have found that notice and opportunity for further public comment before issuing this AD are unnecessary.

Comments Invited

This AD is a final rule that involves requirements affecting flight safety and was not preceded by notice and an opportunity for public comment; however, we invite you to send us any written relevant data, views, or arguments regarding this AD. Send your comments to an address listed under ADDRESSES. Include “AD Docket No. FAA-2007-25948; Directorate Identifier 2006-NE-32-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-14951 (72 FR 8089, February 23, 2007), and by adding a new airworthiness directive, Amendment 39-15005, to read as follows:

2007-04-19R1 Superior Air Parts, Inc.: Amendment 39-15005. Docket No. FAA-2006-25948; Directorate Identifier 2006-NE-32-AD.

Effective Date

(a) This airworthiness directive (AD) becomes effective May 7, 2007.

Affected ADs

(b) This AD revises AD 2007-04-19.

Applicability

(c) This AD applies to Superior Air Parts, Inc. (SAP), cylinder assemblies, manufactured between April 2005 and November 2005, part numbers (P/Ns): SA47000L-A1, SA47000L-A20P, SA47000S-A1, SA47000S-A20P, SA47000S-A21P, SA52000-A1, SA52000-A20P, SA52000-A21P, SA52000-A22P, SA52000-A23P, SA55000-A1, and SA55000-A20P, installed in Teledyne Continental Motors (TCM) 470, 520, and 550 series reciprocating engines. These P/N cylinder assemblies may be installed in the TCM engine models listed in the following Table 1.

Table 1.—Affected Teledyne Continental Engine Models
Engine model |
O-470 | -G, -K, -L, -M, -P, -R, -S, -U.
IO-470 | -C, -D, -E, -F, -G, -H, -L, -M, -N, -P, -R, -S, -U, -V.
IO-520 | -A, B, BA, C, CB, D, E, F, J, K, L, M, BB, MB.
TSIO-520 | -AF, B, BB, C, CE, D, DB, E, EB, G, H, J, JB, K, KB, L, LB, M, N, NB, P, R, T, UB, VB, WB.
IO-550 | -A, B, C, D, E, F, L.

These engine models are installed in, but not limited to, the aircraft models listed in the following Table 2:

Table 2.—Teledyne Continental Motors-Related Aircraft Models
Engine model | Aircraft manufacturer | Aircraft model designation
IO-470-C | Beechcraft | J, K, M35.
IO-470-D | Cessna | 310 G & H.
IO-470-D | Rockwell | 200 A, B, & C.
IO-470-E | Cessna | 210 & A.
IO-470-F | Bellanca | 14-19-3.
IO-470-F | Cessna | 185.
IO-470-H | Sierra Hotel Aero, Inc. (Navion) | Navion F & G (Rangemaster).
IO-470-L | Beechcraft | B55 Baron.
IO-470-M | Gulfstream | 500 A.
IO-470-N | Beechcraft | N & P.
IO-470-N | Beechcraft | G33.
IO-470-S | Cessna | 210 B & C.
IO-470-S | Cessna | 205.
IO-470-U | Cessna | 310 I & J.
IO-470-V/VO | Cessna | 310K, L, N, P & Q.
IO-520-A | Cessna | 210 D, E, F, G, & H.
IO-520-A | Cessna | 206.
IO-520-A | Cessna | P206.
IO-520-A | Rockwell | 200 D.
IO-520-B | Beechcraft | 36 Bonanza.
IO-520-B | Beechcraft | A36.
IO-520-B | Sierra Hotel Aero, Inc. (Navion) | Navion H.
IO-520-BA | Beechcraft | A36.
IO-520-BA | Beechcraft | S & V35, V35A, V35B.
IO-520-BA | Beechcraft | C33 A.
IO-520-BA | Beechcraft | E33 A & C.
IO-520-BA | Beechcraft | F33 A & C.
IO-520-BA | Sierra Hotel Aero, Inc. | Navion G (Rangemaster).
IO-520-BA | Sierra Hotel Aero, Inc. | Navion H.
IO-520-BB | Beechcraft | A36.
IO-520-BB | Beechcraft | V35B.
IO-520-BB | Beechcraft | F33 A.
IO-520-C & CB | Beechcraft | C55-E55 Baron.
IO-520-D | Bellanca | 17-30 Viking.
IO-520-D | Cessna | A188-300 AG Truck.
IO-520-D | Cessna | 185.
IO-520-E | (Cessna 310) | Exec 600.
IO-520-E | (Beech Baron) | Pres 600.
IO-520-F | Cessna | 207.
IO-520-F | Cessna | U206.
IO-520-K | Bellanca | 17-30A.
IO-520-L | Cessna | 210 K, L, M, N & R.
IO-520-L | Cessna | 210N II.
IO-520-L | Cessna | 210R.
IO-520-M | Cessna | 310R.
IO-520-MB | Cessna | 310R.
IO-550-A | Cessna | 310 Conversion.
IO-550-B | Beechcraft | A36.
IO-550-B | (Beech Bonanza) | Foxstar.
IO-550-C | Beechcraft | 58 Baron.
IO-550-D | Cessna | 185/188 Conversion.
IO-550-E | Cessna | 310 Conversion.
IO-550-F | Cessna | 206/207 Conversion.
IO-550-L | Cessna | 210 Conversion.
O-470-M | Cessna | 310.
O-470-G | Beechcraft | H35.
O-470-K | Bellanca | 14-19-2.
O-470-K | Cessna | 180 (230 HP).
O-470-L | Cessna | 182.
O-470-L | Cessna | 180D.
O-470-M | Cessna | 310 B.
O-470-P | Sierra Hotel Aero, Inc. (Navion) | Navion.
O-470-R | Cessna | 188-230.
O-470-R | Cessna | 182.
O-470-R | Cessna | 180 E-J.
O-470-S | Cessna | 182.
O-470-U | Cessna | 182.
O-470-U | Cessna | 180 K.
TSIO-520-AF | Cessna | P210N II.
TSIO-520-B | Cessna | 320D, E & F.
TSIO-520-B | Cessna | T310-Q & R.
TSIO-520-BB | Cessna | T310R.
TSIO-520-BE | Piper | PA-46-310 Malibu.
TSIO-520-C | Cessna | T210 F, G, & H.
TSIO-520-C | Cessna | TU206.
TSIO-520-C | Cessna | TP206.
TSIO-520-C&CB | Beechcraft | 58 Baron.
TSIO-520-CE | Cessna | T210R.
TSIO-520-CF | Cessna | P210R.
TSIO-520-D | Beechcraft | V35, V35A, V35B-TC.
TSIO-520-E | Cessna | 402, A & B.
TSIO-520-E | Cessna | 401, A & B.
TSIO-520-EB | Cessna | 335.
TSIO-520-G | Cessna | T207.
TSIO-520-H | Cessna | T210 J, K & L.
TSIO-520-J | Cessna | 210 J.
TSIO-520-J | Cessna | 414.
TSIO-520-J | Riley Conversions | 340 Super Riley.
TSIO-520-L&LB | Beechcraft | 58P Baron.
TSIO-520-L&LB | Beechcraft | 58TC Baron.
TSIO-520-M | Cessna | T207.
TSIO-520-M | Cessna | TU206.
TSIO-520-N | Cessna | 414-II Chancellor.
TSIO-520-N | Cessna | 340.
TSIO-520-NB | Cessna | 414-II.
TSIO-520-NB | Cessna | 340.
TSIO-520-P | Cessna | P210N.
TSIO-520-R | Cessna | T210 M.
TSIO-520-R | Cessna | T210N II.
TSIO-520-T | Cessna | T188C AG Husky.
TSIO-520-UB | Beechcraft | A36TC Bonanza.
TSIO-520-UB | Beechcraft | B36TC.
TSIO-520-VB | Cessna | 402 C.
TSIO-520-WB | Beechcraft | 58P Baron.
TSIO-520-WB | Beechcraft | 58TC Baron.

This AD also applies to SAP, cast cylinder assemblies, P/Ns SL32000W-A1, SL32000W-A20P, SL32000W-A21P, SL32000WH-A1, SL32000WH-A20P, SL32006W-A1, SL32006W-A20P, SL32006W-A21P, SL36000TW-A1, SL36000TW-A20P, SL36000TW-A21P, SL36000TW-A22P, SL36000W-A1, SL36000W-A20P, SL36000W-A21P, SL36006W-A1, SL36006W-A20P, and SL36006W-A21P, installed in Lycoming Engines (LE) 320, 360, and 540 series reciprocating engines and Avco Lycoming 540 series reciprocating engines. These P/N cylinder assemblies may be installed in the LE and AL engine models listed in the following Table 3.

Table 3.—Affected Lycoming Engines and Avco Lycoming Engine Models
Engine model |
O-320 | -A, -B, -C, -D, -E, H.
IO-320 | -B, -D, -E.
LIO-320 | -B.
AIO-320 | -A, -B, -C.
AEIO-320 | -D, -E.
O-360 | -A, -B, -C, -D, -F, -G, -J.
IO-360 | -B, -L, -M.
LO-360 | -A.
AEIO-360 | -B, -H.
HO-360 | -C.
HIO-360 | -B.
O-540 | -A, -B, -E, -F, -G, -H, -J.
IO-540 | -A, -C, -D, -N, -T, -V, -W.
AEIO-540 | -D.

These engine models are installed in, but not limited to, the aircraft models listed in the following Table 4:

Table 4.—Lycoming Engines and Avco Lycoming-Related Aircraft Models
Engine model | Aircraft manufacturer | Aircraft model designation
O-320-A | Mooney Aircraft | Mark 20A.
O-320-A1A | Piper Aircraft | PA-23-150 Apache.
O-320-A1A | Piper Aircraft | PA-22-150 Tri-Pacer.
O-320-A1A | Piper Aircraft | PA-22S-150 Tri-Pacer.
O-320-A1A | Piper Aircraft | PA-25 Pawnee.
O-320-A1A | Doyne Aircraft | Doyn-Cessna 170,170A,170B.
O-320-A1A | Dinfia | Ranquel 1A-46.
O-320-A1A | Simmering-Graz Pauker | Flamingo SGP-M-222.
O-320-A1A | Aviamilano | Scricciolo P-19.
O-320-A1A | Vos Helicopter Co | Spring Bok.
O-320-A1A | Mooney Aircraft | Mark 20A.
O-320-A1B | Piper Aircraft | PA-22-150 Tri-Pacer.
O-320-A1B | Piper Aircraft | PA-22S-150 Tri-Pacer.
O-320-A1B | Piper Aircraft | PA-23 Apache.
O-320-A1B | Doyne Aircraft | Doyn-Cessna 170,170A,170B.
O-320-A1B | S.O.C.A.T.A | Horizon (Gardan).
O-320-A2A | Piper Aircraft | PA-22-150.
O-320-A2A | Piper Aircraft | PA-22S-150.
O-320-A2A | Piper Aircraft | Agriculture PA-18A-150.
O-320-A2A | Piper Aircraft | Super Cub PA-18-150.
O-320-A2A | Piper Aircraft | Caribbean PA-22-150.
O-320-A2A | Piper Aircraft | PA-25 Pawnee.
O-320-A2A | Lake Aircraft | Colonial C1.
O-320-A2A | Intermountain Mfg. Co | Call Air Texas A-5, A-5T.
O-320-A2A | Rawdon Bros | Rawdon T-1, T-15, T-15D.
O-320-A2A | Shinn Engineering | Shinn 2150-A.
O-320-A2A | Dinfia | Ranquel 1A-46.
O-320-A2A | Neiva | 1PD-5802.
O-320-A2A | Sud | Gardan-Horizon (GY-80).
O-320-A2A | La Verda | Falco F8L Series II, America.
O-320-A2A | Malmo | Vipan MF1-10.
O-320-A2A | Kingsford Smith | Autocrat SCRM-153.
O-320-A2B | Aero Commander | 100.
O-320-A2B | Piper Aircraft | PA-22-150.
O-320-A2B | Piper Aircraft | PA-22S-150.
O-320-A2B | Piper Aircraft | Cherokee PA-28-150.
O-320-A2B | Piper Aircraft | Super Cub PA-18-150.
O-320-A2B | Champion Aircraft | Challenger 7GCA, 7GCB, 7KC.
O-320-A2B | Champion Aircraft | Citabria 7GCAA, 7GCRC.
O-320-A2B | Champion Aircraft | Agriculture 7GCBA.
O-320-A2B | Beagle | Pup 150.
O-320-A2B | Arctic | Interstate S1B2.
O-320-A2B | Robinson Helicopters | R-22.
O-320-A2C | Robinson Helicopters | R-22.
O-320-A2C | Varga | Kachina 2150a.
O-320-A2C | Cicare | Cicare AG.
O-320-A2D | Bellanca Aircraft | Citabria 150 (7GCAA).
O-320-A2D | Bellanca Aircraft | Citabria 150S (7GCBC).
O-320-A2D | Bellanca | Citabria 150S (7G(.HU).
O-320-A2F | Cessna Aircraft | 177A.
O-320-A3A | Piper Aircraft | Apache PA-23.
O-320-A3A | Doyn Aircraft | Doyn-Cessna 170, 170A, 170B.
O-320-A3A | Corben-Fettes | Globe Special (Globe GC-1B).
O-320-A3B | Piper Aircraft | Apache PA-23.
O-320-A3B | Doyn Aircraft | Doyn-Cessna 170, 170A, 170B.
O-320-A3B | Teal II | TSC 1A2.
O-320-B1A | Piper Aircraft | Apache PA-23-160.
O-320-B1A | Doyn Aircraft | Doyn-Cessna 170, 170A, 170B.
O-320-B1A | Malmo | Vipan MF1-10.
O-320-B1B | Piper Aircraft | Apache PA-23-160.
O-320-B1B | Doyn Aircraft | Doyn-Cessna 170, 170A, 170B.
O-320-B2A | Piper Aircraft | PA-22-160.
O-320-B2A | Piper Aircraft | PA-22S-160.
O-320-B2B | Piper Aircraft | PA-22-160.
O-320-B2B | Piper Aircraft | PA-22S-160.
O-320-B2B | Beagle | Airedale D5-160.
O-320-B2B | Fuji-Heavy Industries | Fuji F-200.
O-320-B2B | Uirapuru | Aerotec 122.
O-320-B2C | Robinson Helicopters | R22-HP, Alpha, Beta.
O-320-B2D | Maule | MX-7-160.
O-320-B2E | Lycon
O-320-B3A | Piper Aircraft | Apache PA-23-160.
O-320-B3A | Doyn Aircraft | Doyn-Cessna 170, 170A, 170B.
O-320-B3B | Piper Aircraft | PA-23-160 Apache.
O-320-B3B | Doyn Aircraft | Doyn-Cessna 170, 170A, 170B.
O-320-B3B | Sud | Gardan (GY8O-160).
O-320-C1A | Piper Aircraft | Apache PA-23-160.
O-320-C1A | Riley Aircraft | Rayjay (Apache).
O-320-C1B | Piper Aircraft | Apache PA-23-160.
O-320-C3A | Piper Aircraft | Apache PA-23-160.
O-320-C3B | Piper Aircraft | Apache PA-23-160.
O-320-D1A | Sud | Gardan (GY80).
O-320-D1A | Gyroflug | Speed Cancard.
O-320-D1A | Grob | G115.
O-320-D1D | Gulfstream | GA-7.
O-320-D1F | Slingsby | T67 Firefly.
O-320-D2A | Piper Aircraft | Cherokee PA-28S-160.
O-320-D2A | Robin | Major DR400-140B.
O-320-D2A | Robin | Chevalier DR-360, R-3140.
O-320-D2A | S.O.C.A.T.A | Tampico TB9.
O-320-D2A | Slingsby | T67C Firefly.
O-320-D2A | Daetwyler | MD-3-160.
O-320-D2A | Nash Aircraft Ltd | Petrel.
O-320-D2A | Aviolight | P66D Delta.
O-320-D2A | General Avia | Pinguino.
O-320-D2B | Beechcraft | Musketeer A23.
O-320-D2B | Piper Aircraft | Cherokee PA-28-160.
O-320-D2J | Cessna | Skyhawk 172 P.
O-320-D3G | Piper Aircraft | Cadet PA-28-161.
O-320-D3G | Piper Aircraft | Warrior II.
O-320-E1A | Grob | G115.
O-320-E1C | M.B.B. (Messerschmitt-Boelkow-Blohm) | Monsun (BO-209-B).
O-320-E1F | M.B.B | Monsun (BO-209-B).
O-320-E2A | Piper Aircraft | Cherokee PA-28-140.
O-320-E2A | Piper Aircraft | Cherokee PA-28-150.
O-320-E2A | Robin | Major (DR-340).
O-320-E2A | Robin | Sitar.
O-320-E2A | Robin | Bagheera (GY-100-135).
O-320-E2A | S.O.C.A.T.A | Super Rallye (MS-886).
O-320-E2A | S.O.C.A.T.A | Rallye Commodore (MS-892).
O-320-E2A | Siai-Marchetti | S-202.
O-320-E2A | F.F.A | Bravo (AS-202/15).
O-320-E2A | Partenavia | Oscar (P66B).
O-320-E2A | Partenavia | Bucker (131 APM).
O-320-E2A | Aeromot | Paulistina P-56.
O-320-E2A | Pezetel | Koliber 150.
O-320-E2C | Beechcraft | Musketeer (B19).
O-320-E2C | Beechcraft | Musketeer III (M-23111).
O-320-E2C | M.B.B | Monsun (BO-209-B).
O-320-E2D | Beechcraft | B19 Sport.
O-320-E2D | Cessna | 177.
O-320-E2D | Cessna | 172 I-M.
O-320-E2D | Piper Aircraft | PA-28-151.
O-320-E2D | Piper Aircraft | PA-28-140.
O-320-E2D | Cessna | Cardinal (172.1, 177).
O-320-E2F | M.B.B | Monsun (BO-209-B).
O-320-E2F | M.B.B | Wassmer Pacific (WA-5 1).
O-320-E2G | Gulfstream | AA5 Traveler.
O-320-E2G | Gulfstream | AA5A Cheetah.
O-320-E3D | Beechcraft | B19 Sport.
O-320-E3D | Piper Aircraft | Cherokee (140).
O-320-H2AD | Cessna | Skyhawk 172 N.
O-320-H2AD | Partenavia | P-66C.
O-320A2C | Varga | Kachina 2150.
IO-320-B2A | Piper Aircraft | Twin Comanche (PA-30).
IO-320-B1C | Hi
IO-320-B1C | Shear
IO-320-B1C | Wing
IO-320-B1D | Ted Smith Aircraft | Aerostar.
IO-320-D1A | M.B.B | Monsun (BO-209-C).
IO-320-D1B | M.B.B | Monsun (BO-209-C).
IO-320-E1A | Champion | KCAB.
IO-320-E1A | M.B.B | Monsun (BO-209-C).
IO-320-E1B | Bellanca Aircraft.
IO-320-E2A | Champion | 7 KCAB.
IO-320-E2A | Champion Aircraft | Citabria.
IO-320-E2B | Bellanca Aircraft
IO/LIO-320-B1A | Piper Aircraft | PA-30 Comanche (2).
IO/LIO-320-B1A | Piper Aircraft | Twin Comanche (PA-39).
AIO-320-Bl B | M.B.B | Monsun (BO-209-C).
AEIO-320-D1B | Slingsby | T67M Firefly.
AEIO-320-D2B | Hindustan Aeronautics Ltd | HT-2.
AEIO-320-E1A | Bellanca Aircraft
AEIO-320-E1A | Champion Aircraft
AEIO-320-EIB | Bellanca Aircraft
AEIO-320-EIB | Champion Aircraft | Decathalon (8KCAB-CS).
AEIO-320-E2B | Bellanca Aircraft
AEIO-320-E2B | Champion Aircraft | Decathalon (8KCAB).
O-320-A1A | Riley Aircraft | Riley Twin.
O-360-A1A | Beechcraft | Travel Air (95, B-95).
O-360-A1A | Piper Aircraft | Comanche (PA-24).
O-360-A1A | Intermountain Mfg. Co | Call Air (A-6).
O-360-A1A | Lake Aircraft | Colonial (C-2, LA-4, 4A or 4P).
O-360-A1A | Doyn Aircraft | Doyn-Cessna (170B, 172, 172A, 172B).
O-360-1A | Mooney Aircraft | Mark “20B” (M-20B).
O-360-A1A | Earl Horton | Pawnee (Piper PA-25).
O-360-A1A | Dinfia | Ranquel (IA-51).
O-360-A1A | Neiva | (IPD-5901).
O-360-A1A | Regente | (N-591).
O-360-A1A | Wassmer | Super 4 (WA-50A).
O-360-A1A | Wassmer | Sancy (WA-40).
O-360-A1A | Wassmer | Baladou (WA-40).
O-360-A1A | Wassmer | Pariou (WA-40).
O-360-A1A | Sud | Gardan (GY-180).
O-360-A1A | Bolkow | (207).
O-360-A1A | Partenavia | Oscar (P-66).
O-360-A1A | Siai-Marchetti | (S-205).
O-360-A1A | Procaer | Picc Hio (F-15-A).
O-360-A1A | S.A.A.B | Safir (91-D).
O-360-A1A | Malmo | Vipan (MF-1OB).
O-360-A1A | Aero Boero | AB-180.
O-360-A1A | Beagle | Airedale (A-109).
O-360-A1A | DeHavilland | Drover (DHA-3MK3).
O-360-A1A | Kingsford-Smith | Bushmaster (J5-6).
O-360-A1A | Aero Engine Service Ltd | Victa (R-2).
O-360-A1AD | S.O.C.A.T.A | Tabago TB-10.
O-360-A1D | Piper Aircraft | Comanche (PA-24).
O-360-A1D | Lake Aircraft | Colonial (LA-4, 4A or 4P).
O-360-A1D | Doyn Aircraft | Doyn-Beech (Beech 95).
O-360-A1D | Mooney Aircraft | Master 21 (M-20E).
O-360-A1D | Mooney Aircraft | Mark 20B, 20D, (M2OB, M2OC).
O-360-A1D | Mooney Aircraft | Mooney Statesman (M-20G).
O-360-A1D | Dinfia | Querandi (IA-45).
O-360-A1D | Wassmer | (WA-50).
O-360-A1D | Malmo | Vipan (MFI-10).
O-360-A1D | Cessna Aircraft | Skyhawk.
O-360-A1D | Doyn Aircraft | Doyn-Piper PA-23-160.
O-360-AIF6 | Cessna Aircraft | Cardinal.
O-360-AIF6D | Cessna Aircraft | Cardinal 177.
O-360-AIF6D | Teal III | TSC (1A3).
O-360-A1G6 | Aero Commander
O-360-A1G6D | Beech Aircraft | Duchess 76.
O-360-AIH6 | Piper Aircraft | Seminole (PA-44).
O-360-Al LD | Wassmer | Europa WA-52.
O-360-AIP | Aviat
O-360-AIP | Husky
O-360-A2A | Center Est Aeronautique | Regente (DR-253).
O-360-A2A | S.O.C.A.T.A | RalIye Commodore (MS-893).
O-360-A2A | Societe Aeronautique Normande | Mousquetaire (D-140).
O-360-A2A | Bolkow | Klemm (Kl-1 07C).
O-360-A2A | Partenavia | Oscar (P-66).
O-360-A2A | Beagle | Husky (D5-180) (J1-U).
O-360-A2D | Piper Aircraft | Comanche PA-24.
O-360-A2D | Piper Aircraft | Cherokee C PA-28-180.
O-360-A2D | Mooney Aircraft | Master 21 (M-20D).
O-360-A2D | Mooney Aircraft | Mark 21 (M-20E).
O-360-A2E | Std. Helicopter
O-360-A2F | Aero Commander | Lark(100).
O-360-A2F | Cessna Aircraft | Cardinal.
O-360-A2G | Beech Aircraft | Sport.
O-360-A3A | C.A.A.R.P.S.A.N | (M-23111).
O-360-A3A | Societe Aeronautique Normande | Jodel (D-140C).
O-360-A3A | Robin | Regent (DR400/180).
O-360-A3A | Robin | Remorqueur (DR400/180R).
O-360-A3A | Robin | R-3170.
O-360-A3A | S.O.C.A.T.A | Rallye 18OGT.
O-360-A3A | S.O.C.A.T.A | Sportavia Sportsman (RS-180).
O-360-A3A | Norman Aerospace Co | NAC-1 Freelance.
O-360-A3A | Nash Aircraft Ltd | Petre.
O-360-A3AD | S.O.C.A.T.A | TB-10.
O-360-A3AD | Robin | Aiglon (R-l 180T).
O-360-A4A | Piper Aircraft | Cherokee “D” PA-28-180.
O-360-A4D | Varga | Kachina.
O-360-A4G | Beech Aircraft | Musketeer Custom III.
O-360-A4K | Grumman American | Tiger.
O-360-A4K | Beech Aircraft | Sundowner 180.
O-360-A4M | Piper Aircraft | Archer II PA-28-18.
O-360-A4M | Valmet | PIK-23.
O-360-A4N | Cessna Aircraft | 172 (Optional).
O-360-A4P | Penn Yan | Super Cub Conversion.
O-360-A5AD | C. Itoh and Co | Fuji FA-200.
O-360-B2C | Seabird Aviation | SB7L.
O-360-C1A | Intermountain Mfg. Co | Call Air (A-6).
O-360-CIE | Bellanca Aircraft | Scout (8GCBC-CS).
O-360-C1F | Maule | Star Rocket MX-7-180.
O-360-C1G | Christen | Husky (A-1).
O-360-C2B | Hughes Tool Co | (269A).
O-360-C2D | Hughes Tool Co | (269A).
O-360-C2E | Hughes Tool Co | YHO-2HU Military.
O-360-C2E | Bellanca Aircraft | Scout 8GCBC FP.
O-360-C4F | Maule | MX-7-180A.
O-360-C4P | Penn Van | Super Cub Conversion.
O-360-F1A6 | Cessna Aircraft | Cutlass RG.
O-360-J2A | Robinson | R22.
IO-360-B1A | Beech Aircraft | Travel-Air (B-95A).
IO-360-B1A | Doyn Aircraft | Doyn-Piper PA-23-200.
IO-360-B1B | Beech Aircraft | Travel-Air (B-95B).
IO-360-B1B | Doyn Aircraft | Doyn-Piper PA-23-200.
IO-360-B1B | Fuji | FA-200.
IO-360-B1D | United Consultants | See-Bee.
IO-360-BIE | Piper Aircraft | Arrow PA-28-180R.
IO-360-BIF | Utva | 75.
IO-360-B2E | C.A.A.R.P | C.A.P. (10).
IO-360-BIF6 | Great Lakes | Trainer.
IO-360-B1G6 | American Blimp | Spector 42.
IO-360-B2F6 | Great Lakes | Trainer.
LO-360-A1 G6D | Beech Aircraft | Duchess.
LO-360-A1H6 | Piper Aircraft | Seminole (PA-44).
IO-360-EIA | T.R. Smith Aircraft | AeroStar.
IO-360-L2A | Cessna Aircraft | Skyhawk C-172.
IO-360-M1A | Diamond Aircraft | DA-40.
IO-360-M1B | Vans Aircraft | RV6, RV7, RV8.
IO-360-M1B | Lancair | 360.
AIO-360-B1B | Moravan | Zim (Z-526-L).
AEIO-360-B1G6 | Great Lakes
AEIO-360-B2F | Mundry | CAP-10.
AEIO-360-B4A | Pitts | S-1S.
AEIO-360-HiA | Bellanca Aircraft | Super Decathalon (8KCAB-180).
AEIO-360-HiB | American Champion | Super Decathalon.
HO-360-B1A | Hughes Tool Co | 269A.
HO-360-B1B | Hughes Tool Co | 269A.
HO-360-C1A | Schweizer | 300C.
HiO-360-A1A | Hughes Tool Co | 300.
H1O-360-A1B | Silvercraft
HiO-360-B1A | Hughes Tool Co | Military 269-A-1.
HlO-360-BIB | Hughes Tool Co | 269A.
O-360-D1A | Hughes Tool Co | 269C, 300C.
O-360-D1A | Schweizer | 300C.
HIO-360-E1AD | Enstrom Helicopter | F28C.
HIO-360-E1BD | Enstrom Helicopter | F28C.
HIO-360-F1AD | Enstrom Helicopter | Faicon F28F.
HIO-360-F1AD | Enstrom Helicopter | Shark 280FX.
HIO-360-F1AD | Enstrom Helicopter | Sentine F28F-P.
HIO-360-G1A | Schweizer | CB.
LHIO-360-C1A | Silvercraft | SH-4 Helicopter.
LHIO-360-C1B | Silvercraft | SH-3 Helicopter.
O-540-AIA | Rhein-Flugzeugbau | RF-1.
O-540-AIA5 | Piper Aircraft | Comanche PA-24-150.
O-540-AIA5 | Helio | Military H-250.
O-540-AIA5 | Yoeman Aviation | YA-1.
O-540-A1B5 | Piper Aircraft | Aztec PA-23-250.
O-540-A1B5 | Piper Aircraft | Comanche PA-24-250.
O-540-AIC5 | Piper Aircraft | Comanche PA-24-250.
O-540-A1D | Found Bros | FBA-2C.
O-540-A1D | Dornier | O-28-B1.
O-540-AID5 | Piper Aircraft | Aztec PA-23-250.
O-540-AID5 | Piper Aircraft | Comanche PA-24-250.
O-540-AID5 | Piper Aircraft | Military Aztec U-1 1A.
O-540-AID5 | Dornier | DO-28.
O-540-A2B | Aero Commander | 500.
O-540-A2B | Mld-States Mfg. Co | Twin Courier 11-500, U-5.
O-540-A3D5 | Piper Aircraft | Navy Aztec PA-23-250.
O-540-B1A5 | Piper Aircraft | Apache PA-23-235.
O-540-BIB5 | Piper Aircraft | Cherokee PA-24-250.
O-540-BIB5 | Doyn Aircraft | Doyn-Piper PA-24-250.
O-540-BID5 | Wassmer | WA-421.
O-540-B2B5 | Piper Aircraft | Pawnee PA-24-235.
O-540-B2B5 | Piper Aircraft | Cherokee PA-28-235.
O-540-B2B5 | Piper Aircraft | Aztec PA-23-235.
O-540-B2B5 | Intermountain Mfg. Co | Call Air A-9.
O-540-B2B5 | Rawdon Bros | Rawdon T-l.
O-540-B2B5 | S.O.C.A.T.A | Rallye 235CA.
O-540-B2C5 | Piper Aircraft | Pawnee PA-24-235.
O-540-B4B5 | Piper Aircraft | Cherokee PA-28-235.
O-540-B4B5 | Embraer | Corioca EMB-710.
O-540-B4B5 | S.O.C.A.T.A | Rallye 235GT.
O-540-B4B5 | S.O.C.A.T.A | Rallye 235C.
O-540-B4B5 | Maule | Star Racket MX-7-235.
O-540-B4B5 | Maule | Super Rocket M-6-235.
O-540-B4B5 | Maule | Super Std. Racket M-7-235.
O-540-E4A5 | Piper Aircraft | Comanche PA-24-260.
O-540-E4A5 | Aviamilano | Flamingo F-250.
O-540-E4A5 | Siai-Marcbetti | SF-260, SF-208.
O-540-E4B5 | Britten-Norman | BN-2.
| Piper Aircraft | Cherokee Six PA-32-260.
O-540-E4C5 | Pilatus Britten-Norman | Islander BN-2A-26.
O-540-E4C5 | Pilatus Britten-Norman | Islander BN-2A-27.
O-540-E4C5 | Pilatus Britten-Norman | Islander II BN-2B-26.
O-540-E4C5 | Pilatus Britten-Norman | Islander BN-2A-2 1.
O-540-E4C5 | Pilatus Britten-Norman | Trislander BN-2A-Mark 111-2.
O-540-F1B5 | Omega Aircraft | BS-12D1.
O-540-F1B5 | Robinson | R-44.
O-540-G1A5 | Piper Aircraft | Pawnee PA-25-260.
O-540-H1B5D | Aero Boero | 260.
O-540-H2A5 | Embraer | Impanema “AG”.
O-540-H2A5 | Gippsland | GA-200.
O-540-H2B5D | Aero Boero | 260.
O-540-J1A5D | Maule | Star Rocket MX-7-235.
O-540-J1A5D | Maule | Super Rocket M-6-235.
O-540-J1A5D | Maule | Super Std. Rocket M-7-235.
O-540-J3A5 | Robin | R-3000/235.
O-540-J3A5D | Piper Aircraft | Dakota PA-28-236.
O-540-J3C5D | Cessna Aircraft | Skylane RG.
IO-540-A1A5 | Doyn Aircraft | Doyn-Piper PA-23-250.
IO-540-A1A5 | Riley Aircraft | Rocket-Cessna 310.
IO-540-A1A5 | Dornier | DO-8-B 1.
IO-540-A1A5 | Siai-Marchetti
IO-540-C1B5 | Piper Aircraft | Aztec B PA-23-250.
IO-540-C1B5 | Piper Aircraft | Comanche PA-24-250.
IO-540-C1C5 | Riley Aircraft | Turbo-Rocket.
IO-540-C4B5 | Piper Aircraft | Aztec C PA-23-250.
IO-540-C4B5 | Piper Aircraft | Aztec F.
IO-540-C4B5 | Wassmer | WA4-2 1.
IO-540-C4B5 | Avions Pierre Robin | HR 100/250.
IO-540-C4B5 | Bellanca Aircraft | Aries T-250.
IO-540-C4B5 | Aerofab | Renegade 250.
IO-540-C4D5 | S.O.C.A.T.A | TB-20.
IO-540-C4DSD | S.O.C.A.T.A | Trinidad TB-20.
IO-540-D4A5 | Piper Aircraft | Comanche PA-24-260.
IO-540-D4A5 | Siai-Marchetti | SF-260.
IO-540-D4B5 | Cerva | CE-43 Guepard.
IO-540-E1A5 | Aero Commander | 500-E.
IO-540-EIB5 | Aero Commander | 500-U.
IO-540-EIB5 | Shrike | 500-S.
IO-540-EIB5 | Poeschel | P-300.
IO-540-GIA5 | Doyn Aircraft | Doyn-Piper PA-23-250.
IO-540-GIA5 | Riley Aircraft | Turbo-Aztec.
IO-540-GIA5 | DeHavilland | Heron Conversion.
IO-540-GIB5 | T.R. Smith Aircraft | Aerostar 600.
IO-540-GIB5 | Found Bros | Centennial 100.
IO-540-G1C5 | Intermountain Mfg. Co | Call Air 1AR821.
IO-540-G1DS | Intermountain Mfg. Co | IAR-822, IAR-826, IAR-823.
IO-540-G1F5 | Bellanca Aircraft
IO-540-N lA5 | Piper Aircraft | Comanche 260.
IO-540-T4A5D | General Aviation | Model 114.
IO-540-T4B5 | Commander | 1 14B.
IO-540-T4B5D | Rockwell | 114.
IO-540-T4C5D | Lake Aircraft | Seawolf.
IO-540-WIA5 | Maule | MX-7-235, MT-7-235, M7235.
IO-540-W1A5D | Maule | Star Rocket MX-7-235.
IO-540-W1A5D | Maule | Super Rocket M-6-235.
IO-540-W1A5D | Maule | Super Std. Rocket M-7-235.
IO-540-W3A5D | Schweizer | Power Glider.
IO-540-AB1A5 | Cessna Aircraft | Skylane C-182.
AEIO-540-D4A5 | Christen | Pitts S-2S, S-2B.
AEIO-540-D4A5 | Siai-Marchetti | SF-260.
AEIO-540-D4A5 | H.A.L | HPT-32.
AEIO-540-D4A5 | Slingsby | Firefly T3A.
AEIO-540-D4B5 | Moravan | Zlin-50L.
AEIO-540-D4B5 | H.A.L | HPT-32.
AEIO-540-D4D5 | Burkhart Grob | Grob G, 1 15T Aero.

These engine models are known to be installed in the aircraft models listed in the following Table 5:

Table 5.—Superior Air Parts, Inc.—Related Aircraft Models
Engine model | Aircraft manufacturer | Aircraft model designation
O-360-A3A2 | American Champion | 7GCBC & 7GCAA.

Unsafe Condition

(d) This AD results from comments from the Public on the existing AD. We are issuing this AD to prevent cylinder separation that can lead to engine failure, a possible engine compartment fire, and damage to the airplane.

Compliance

(e) You are responsible for having the actions required by this AD performed within the compliance times specified unless the actions have already been done.

Determining Which Cylinder Assemblies Are Installed

(f) If aircraft engine records do not list the P/N of the cylinder installed during engine overhaul or repair, visually inspect the cylinders. The affected SAP cylinder head barrel flanges are marked: SA47000L-A1, SA47000L-A20P, SA47000S-A1, SA47000S-A20P, SA47000S-A21P, SA52000-A1, SA52000-A20P, SA52000-A21P, SA52000-A22P, SA52000-A23P, SA55000-A1, or SA55000-A20P or SL32000W-A1, SL32000W-A20P, SL32000W-A21P, SL32000WH-A1, SL32000WH-A20P, SL32006W-A1, SL32006W-A20P, SL32006W-A21P, SL36000TW-A1, SL36000TW-A20P, SL36000TW-A21P, SL36000TW-A22P, SL36000W-A1, SL36000W-A20P, SL36000W-A21P, SL36006W-A1, SL36006W-A20P, or SL36006W-A21P.

Cylinder Assembly Removal

(g) Remove all cylinder assemblies with a serial number of 47LE053559 through 47LF053643, or 47SE054212 through 47SF054251, or 52D0531708 through 52H0532197, or 55E05223 through 55G05289, or 32WE059006 through 32WF059067, or 32WHE05379 through 32WHE05392, or 326WF055517 through 326WF055532, or 36TWF05430 through 36TWG05453, or 36WF058058 through 36WG058124, or 366WE056944 through 366WF057061, or 366WF057150 through 366WF057232, or 366WF057259 through 366WG057534, or 366WG057556, 366WG057569, 366WG057598, 366WG057616, 366WG057621, 366WG057624, or 366WJ057770 through 366WJ057776, or 366WL058131 no later than 150 hours total time-in-service (TIS) to preclude cylinder head fatigue failure and separation at the head-to-barrel threaded interface.

(h) For cylinder assemblies with more than 150 hours total TIS on the effective date of this AD, a 10 hour TIS extension is permitted for the purpose of flying the aircraft to a location where maintenance action can be done to meet the requirements of this AD.

(i) After the effective date of this AD, do not install any cylinder assemblies with P/Ns SA47000L-A1, SA47000L-A20P, SA47000S-A1, SA47000S-A20P, SA47000S-A21P, SA52000-A1, SA52000-A20P, SA52000-A21P, SA52000-A22P, SA52000-A23P, SA55000-A1, or SA55000-A20P,or SL32000W-A1, SL32000W-A20P, SL32000W-A21P, SL32000WH-A1, SL32000WH-A20P, SL32006W-A1, SL32006W-A20P, SL32006W-A21P, SL36000TW-A1, SL36000TW-A20P, SL36000TW-A21P, SL36000TW-A22P, SL36000W-A1, SL36000W-A20P, SL36000W-A21P, SL36006W-A1, SL36006W-A20P, or SL36006W-A21P with a serial number of 47LE053559 through 47LF053643, or 47SE054212 through 47SF054251, or 52D0531708 through 52H0532197, or 55E05223 through 55G05289, or 32WE059006 through 32WF059067, or 32WHE05379 through 32WHE05392, or 326WF055517 through 326WF055532, or 36TWF05430 through 36TWG05453, or 36WF058058 through 36WG058124, or 366WE056944 through 366WF057061, or 366WF057150 through 366WF057232, or 366WF057259 through 366WG057534, or 366WG057556, 366WG057569, 366WG057598, 366WG057616, 366WG057621, 366WG057624, or 366WJ057770 through 366WJ057776, or 366WL058131 into any engine.

Alternative Methods of Compliance

(j) The Manager, Special Certification Office, FAA, Rotorcraft Directorate, has the authority to approve alternative methods of compliance for this AD if requested using the procedures found in 14 CFR 39.19.

Special Flight Permits

(k) For aircraft with engines that have between 140 hours and 150 hours TIS only, special flight permits may be issued in accordance with §§ 21.197 and 21.199 of the Federal Aviation Regulations (14 CFR 21.197 and 21.199) to operate the aircraft to a location where the requirements of this AD can be done. Special flight permits may not be issued for aircraft that have utilized the provisions of paragraph (h) of this AD.

Related Information

(l) Superior Air Parts, Inc. Mandatory Service Bulletin B06-01, Rev. E, dated January 24, 2007, contains information related to the subject of this AD.

(m) Contact Jurgen Priester, Aerospace Engineer, Special Certification Office, FAA, Rotorcraft Directorate, Southwest Regional Headquarters, 2601 Meacham Blvd., Fort Worth, Texas 76137; e-mail: Jurgen.E.Priester@faa.gov; telephone (817) 222-5159; fax (817) 222-5785 for more information about this AD.

Material Incorporated by Reference

(n) None.

Issued in Burlington, Massachusetts, on March 23, 2007.
Peter A. White,
Acting Manager, Engine and Propeller Directorate, Aircraft Certification Service.

[FR Doc. E7-5915 Filed 3-30-07; 8:45 am]

BILLING CODE 4910-13-P